ENVIRONMENTAL PROTECTION AGENCY

[ER-FRL-6607-1]

Environmental Impact Statements; Notice of Availability

Responsible Agency: Office of Federal Activities, General Information, (202) 564-7167 or www.epa.gov/oeca/ofa.

Weekly receipt of Environmental Impact Statements

Filed May 1, 2000 through May 5, 2000

Pursuant to 40 CFR 1506.9.

EIS No. 000134, Draft EIS, NPS, NJ, Maurice National Scenic and Recreational River (NS&RR) Comprehensive Management Plan, Implementation, Atlantic and Cumberland Counties, NJ, Due: June 26, 2000, Contact: Mary Vaura (215) 597-9175.

EIS No. 000135, Draft Supplement, NPS, MS, Natchez Trace Parkway, Construction of Section 3X Southern Terminus, Adam Counties, MS, Due: July 12, 2000, Contact: Wendall Simpson (601) 680-4005.

EIS No. 000136, Final EIS, FHW, OH, Meigs-124-21.16 Transportation Corridor, Relocating existing OH-124 and US 33, Meigs County, OH, Due: June 12, 2000, Contact: Timothy M. Hill (614) 644-0377.

EIS No. 000137, Final Supplement, NOA, Fishery Management Plan (FMP), Regulatory Impact Review, Snapper-Grouper Complex, South Atlantic Region , Due: June 12, 2000, Contact: Dr. William Hogarth (727) 570-5305.

EIS No. 000138, Final EIS, AFS, CA, Pendola Fire Restoration Project, Implementation, Tahoe National Forest, Downieville Ranger District, Yuba County, CA, Due: June 12, 2000, Contact: Dennis Stevens (530) 478-6253.

Dated: May 9, 2000.
Joseph C. Montgomery,
Director, NEPA Compliance Division, Office of Federal Activities.

[FR Doc. 00-12015 Filed 5-11-00; 8:45 am]

BILLING CODE 6560-50-U